DEPARTMENT OF TRANSPORTATION

Surface Transportation Board

[STB Finance Docket No. 33995]

SF&L Railway, Inc.—Acquisition and Operation Exemption—Toledo, Peoria and Western Railway Corporation Between La Harpe and Peoria, IL

SF&L Railway, Inc. (SF&L), a noncarrier,¹ has filed a notice of exemption under 49 CFR 1150.31 to acquire from Toledo, Peoria and Western Railway Corporation (TPW), an operating easement over, and the rail, ties, and improvements of, a 71.5-mile segment of track, extending between milepost 194.5 at La Harpe 61450 and milepost 123.0 at Peoria 61607, serving the intermediate points of Blandinsville 61420, Sciota 61475, Good Hope 61438, Bushnell 61422, New Philadelphia 61459, Smithfield 61477, Cuba 61427, Canton 61520, Glasford 61533 and Mapleton 61547, in Hancock, McDonough, Fulton and Peoria Counties, IL. Under this transaction, TPW will retain the realty underlying the line, subject to a permanent and unconditional easement to permit SF&L to fulfill its obligations as a railroad common carrier. SF&L will employ TPW as a contract operator, although SF&L will be responsible for rendering service. SF&L states that its projected annual revenues will not exceed those that would qualify it as a Class III rail carrier and its revenues are not projected to exceed $5 million.

¹ SF&L had acquired authority from Missouri Pacific Railroad Company to operate in Ellis and Hill Counties, TX, and has since received Board authorization to abandon these lines pursuant to decisions in SF&L Railway, Inc.—Abandonment Exemption—In Ellis and Hill Counties, TX, Docket No. AB-448 (Sub-No. 1X) (ICC served Dec. 11, 1995; STB served, July 30, 1996, and Dec. 30, 1999).

The transaction was scheduled to be consummated on or shortly after January 17, 2001.

This transaction is related to STB Finance Docket No. 33996, Kern W. Schumacher and Morris H. Kulmer—Continuance in Control Exemption—SF&L Railway, Inc., wherein Kern W. Schumacher and Morris H. Kulmer are seeking an exemption to continue in control of SF&L upon its becoming a Class III rail carrier.

If the notice contains false or misleading information, the exemption is void ab initio. Petitions to revoke the exemption under 49 U.S.C. 10502(d) may be filed at any time. The filing of a petition to revoke does not automatically stay the transaction.²

² On January 16, 2001, a petition to stay the effectiveness of the exemptions filed in this proceeding and in STB Finance Docket No. 33996 was filed by Joseph C. Szabo, on behalf of the United Transportation Union-Illinois Legislative Board. The petition for stay was denied by the Board in SF&L Railway, Inc.—Acquisition and Operation Exemption—Toledo, Peoria and Western Railway Corporation Between La Harpe and Peoria, IL, STB Finance Docket No. 33995, and Kern W. Schumacher and Morris H. Kulmer—Continuance in Control Exemption—SF&L Railway, Inc., STB Finance Docket No. 33996 (STB served Jan. 16, 2001).

An original and 10 copies of all pleadings, referring to STB Finance Docket No. 33995, must be filed with the Surface Transportation Board, Office of the Secretary, Case Control Unit, 1925 K Street, NW., Washington, DC 20423-0001. In addition, one copy of each pleading must be served on Fritz R. Kahn, Esq., 1920 N Street, NW., 8th Floor, Washington, DC 20036-1601.

Board decisions and notices are available on our website at “WWW.STB.DOT.GOV.”

Decided: January 30, 2001.
By the Board, David M. Konschnik, Director, Office of Proceedings.
Vernon A. Williams,
Secretary.

[FR Doc. 01-3056 Filed 2-6-01; 8:45 am]

BILLING CODE 4915-00-P